DEPARTMENT OF COMMERCE

National Oceanic and Atmospheric Administration

Agency Information Collection Activities; Submission to the Office of Management and Budget (OMB) for Review and Approval; Comment Request; A Coastal Management Needs Assessment and Market Analysis for Financing Resilience

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on February 27, 2024 (89 FR 14447) during a 60-day comment period. No comments were received. This notice allows for an additional 30 days for public comments.

Agency: National Oceanic and Atmospheric Administration (NOAA), Commerce.

Title: A Coastal Management Needs Assessment and Market Analysis for Financing Resilience.

OMB Control Number: 0648-0796.

Form Number(s): None.

Type of Request: Regular submission [extension of an approved information collection].

Number of Respondents: 36.

Average Hours per Response: 1.5 hours.

Total Annual Burden Hours: 54.

Needs and Uses: This is a request for extension to an approved collection of information under the Paperwork Reduction Act, 44 U.S.C. 3501 et seq., and implementing regulations at 5 CFR. part 1320. This previously-approved information collection assists NOAA in the development of funding and financing coastal resilience learning products and tools in support of the Coastal Zone Management Act of 1972 (CZMA), 16 U.S.C. 1451 et seq. NOAA's Office for Coastal Management (OCM) and its regional, State, Federal, and non-profit partners have worked closely with coastal managers across the country to increase the resilience of our coastal communities, economies and ecosystems. Under the CZMA, OCM provides financial and technical assistance to states and territories, including that which helps its customers (coastal managers) develop hazard mitigation and climate adaptation plans that include strategies for short-term responses to immediate threats (e.g., flooding, hurricanes) as well as long-term responses to gradual changes (e.g., sea level rise, drought). Services are provided through outreach, training, funding, resource, and tool development.

Solutions to these resilience challenges are often complex and cross-sectoral. Therefore, coastal decision-makers regularly point to the need for more substantial, coordinated, sustained and creative funding opportunities to support these efforts. The results of an initial review of more than 200 resources that NOAA conducted in support of this effort, and informal conversations with NOAA customers and other stakeholders indicate that there is no comprehensive inventory or guide to understanding and selecting appropriate funding options or financing strategies. These findings have been further confirmed in subsequent informal discussions with coastal resilience and finance practitioners at national venues such as the National Adaptation Forum and Social Coast Forum, as well as through the original needs assessment using this information collection instrument. NOAA's coastal management partners continue to request support on this topic.

The financing world is one that is constantly evolving new products and retiring others. The range of funding and financing options, from grants and low-interest loans to more innovative private-public partnerships and emerging bonds, presents an ever-changing and complex array of choices. In initial internal communications and informal discussions conducted between June 2018 and February 2020, NOAA customers indicated that these opportunities and mechanisms are not well understood, and are generally inaccessible to coastal managers, particularly in small to mid-sized communities, rural areas, and tribal communities. The initial information gathered via this collection supported this.

In many coastal communities, investment in mitigation and resilience measures remains either limited or reactive in response to a catastrophic event. While there are no data on the number of adaptation plans that have been implemented, lack of funding is a frequently cited barrier to implementation. At the same time, it has been estimated that investing in mitigation can save communities $6 for every $1 spent through mitigation grants from agencies including the Federal Emergency Management Agency, Department of Housing and Urban Development, and Economic Development Administration (according to the National Institute of Building Sciences' October 2018 report, Natural Hazard Mitigation Saves: Utilities and Transportation Infrastructure). Understanding the suite of funding and financing options available at the time resilience planning is undertaken, and then incorporating financial strategies into the planning process and recommendations, will help ensure that these plans are implemented. Section 310 of the Coastal Zone Management Act allows for technical assistance and management-oriented research to develop and implement state coastal management program amendments.

NOAA uses the information collected to develop needs assessments defining the types of funding, financing mechanisms, and associated resources that its state and local coastal manager customers need for coastal resilience activities and a market analysis of existing funding and financing programs and mechanisms. Simultaneously, NOAA is identifying existing resources and partnership opportunities for State and local coastal managers and NOAA's non-profit, academic, and other customers. Information collected to date has helped inform the development of new NOAA funding and financing products and services and future collection efforts will help NOAA better understand the impacts these products and services have had on coastal managers' barriers.

This request for extension to an approved collection of information is for a set of related interviews to facilitate this research. NOAA will perform interviews with state and local coastal managers, as well as representatives from non-profit organizations, academia, the Federal Government, and the finance industry. The interviews will collect relevant information from interviewees on their experiences with coastal resilience funding and financing mechanisms, challenges and opportunities related to funding and financing coastal resilience, and technical support needs and opportunities that NOAA can address.

The information provided by interviewees will be synthesized into the needs assessment, which will address needs and information gaps partitioned by region, financial scale, time scale, and scope/sector. The information provided by interviewees will also be used to help inform an inventory of existing entities providing resources for resilience funding, as well as a summary of existing and emerging funding sources and financial tools and mechanisms for coastal resilience. Finally, the interviews will inform recommendations on NOAA's potential niche in addressing the identified needs and gaps.

The resulting research (and any subsequent resources or tools developed by NOAA to address identified gaps) will provide much needed information to NOAA's customers on funding and financing coastal resilience efforts, including available resources and mechanisms, best practices and strategies, real world success stories, and opportunities for technical and financial partnerships with private and public entities.

Affected Public: State and local government, Federal Government, non-profit organizations, academic institutions, business or other for-profit enterprises.

Frequency: On Occasion.

Respondent's Obligation: Voluntary.

Legal Authority: None.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0796.

Sheleen Dumas,
Department PRA Clearance Officer, Office of the Under Secretary for Economic Affairs, Commerce Department.

[FR Doc. 2024-15785 Filed 7-17-24; 8:45 am]

BILLING CODE 3510-22-P